INTERNATIONAL TRADE COMMISSION

[USITC SE-01-010]

Sunshine Act Meeting

AGENCY HOLDING THE MEETING: United States International Trade Commission.

TIME AND DATE: March 21, 2001 at 11 a.m.

PLACE: Room 101, 500 E Street SW., Washington, DC 20436, Telephone: (202) 205-2000.

STATUS: Open to the public.

MATTERS TO BE CONSIDERED: 1. Agenda for future meeting: none.

2. Minutes.

3. Ratification List.

4. Inv. Nos. 731-TA-868-869 (Final) (Steel Wire Rope from China and India)—briefing and vote. (The Commission is currently scheduled to transmit its determination and Commissioners' opinions to the Secretary of Commerce on March 30, 2001.)

5. Inv. No. TA-204-4 (Wheat Gluten: Extension of Action)—briefing and vote. (The Commission is currently scheduled to transmit Commissioners' opinions to the President on April 2, 2001.)

6. Outstanding action jackets: none.

In accordance with Commission policy, subject matter listed above, not disposed of at the scheduled meeting, may be carried over to the agenda of the following meeting.

Issued: March 12, 2001.
By order of the Commission.
Donna R. Koehnke,
Secretary.

[FR Doc. 01-6668 Filed 3-13-01; 5:16 pm]

BILLING CODE 7020-10-P